DEPARTMENT OF AGRICULTURE

Forest Service

Bighorn Resource Advisory Committee

AGENCY: Forest Service, USDA.

ACTION: Notice of meeting.

SUMMARY: The Bighorn Resource Advisory Committee (RAC) will meet in Greybull, Wyoming. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found online at http://bit.ly/1Lu2668.

DATES: The meeting will be held Thursday, May 12, 2016, at 3:00 p.m.

All RAC meetings are subject to cancellation. For status of meeting prior to attendance, please contact the person listed under FOR FURTHER INFORMATION CONTACT.

ADDRESSES: The meeting will be held at Medicine Wheel District Office, 95 Highway 16/20, Greybull, Wyoming.

Written comments may be submitted as described under SUPPLEMENTARY INFORMATION. Comments may alse be sent via email to comments-bighorn@fs.fed.us, with the words Bighorn RAC in the subject line. Facsimilies may be sent to 307-674-2668. All comments, including names and addresses when provided, are placed in the record and are available for public inspection and copying. The public may inspect comments received at Bighorn National Forest Supervisor's Office. Please call ahead to facilitate entry into the building.

FOR FURTHER INFORMATION CONTACT: Christopher D. Jones, RAC Coordinator, by phone at 307-674-2627 or via email at christopherdjones@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Update the RAC on the status of existing Title II projects, and

2. Consider project proposals for the current year.

The meeting is open to the public. The agenda will include time for people to make oral statements of three minutes or less. Individuals wishing to make an oral statement should request in writing by April 28, 2016, to be scheduled on the agenda. Anyone who would like to bring related matters to the attention of the committee may file written statements with the committee staff before or after the meeting. Written comments and requests for time for oral comments must be sent to Christopher D. Jones, RAC Coordinator, 2013 Eastside 2nd Street, Sheridan, Wyoming 82801; by email to christopherdjones@fs.fed.us; or via facsimile to 307-674-2668.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case by case basis.

Dated: March 28, 2016.
David Hogen,
Designated Federal Official.

[FR Doc. 2016-07421 Filed 3-31-16; 8:45 am]

BILLING CODE 3411-15-P